DEPARTMENT OF ENERGY

Federal Energy Regulatory Commission

[Project No. 2000-036]

Power Authority of the State of New York ; Notice of Comment Deadline

October 3, 2003.

On September 30, 2003, pursuant Rule 602 (18 CFR 385.603) the Power Authority of the State of New York (PASNY) filed an offer of settlement on behalf of itself, the Allegheny Electric Cooperative, Inc., Public Power Association of New Jersey, Rhode Island Public Utilities Commission, and the Vermont Department of Public Service, in the relicense proceeding for PASNY's St. Lawrence Hydroelectric Project No. 2000.

The offer of settlement was not joined in by intervenor Massachusetts Municipal Wholesale Electric Company.

Comments on the offer of settlement may be filed not later than 10 days after the filing of the offer, and reply comments may be filed not later than 15 days after the filing of the offer.

Magalie R. Salas,
Secretary.

[FR Doc. E3-00037 Filed 10-14-03; 8:45 am]

BILLING CODE 6717-01-P